DEPARTMENT OF THE INTERIOR

Minerals Management Service

Outer Continental Shelf (OCS) Scientific Committee (SC) of the Minerals Management Advisory Board; Announcement of Plenary Session

AGENCY: Minerals Management Service, Interior.

ACTION: Notice of meeting.

SUMMARY: The Minerals Management Advisory Board OCS SC will meet at the Days Hotel and Conference Center, Herndon, Virginia, April 25-27, 2001.

DATES: April 25-27, 2001.

ADDRESSES: The Days Hotel and Conference Center, 2200 Centreville Road, Herndon, Virginia 20170, telephone (703) 471-6700.

FOR FURTHER INFORMATION CONTACT: Ms. Julie Reynolds at (703) 787-1211 or by electronic mail at julie.reynolds@mms.gov. or Mr. Robert LaBelle, Executive Secretary to the OCS Scientific Committee, Minerals Management Service, 381 Elden Street, Mail Stop 4040, Herndon, Virginia 20170-4817. He may be reached by telephone at (703) 787-1756, and by electronic mail at robert.labelle@mms.gov.

SUPPLEMENTARY INFORMATION: The OCS SC is an outside group of scientists that advises the Director, MMS, on the feasibility, appropriateness, and scientific merit of the MMS OCS Environmental Studies Program as it relates to information needed for informed OCS decisionmaking.

The Committee will meet in plenary session on Wednesday, April 25, from 9:00 a.m. to 5:30 p.m. Presentations will be made by the Acting Director, the Associate Director for Offshore Minerals Management, and a representative from the OCS Policy Committee. After these presentations, the rest of the day will be filled by presentations from the MMS regional studies chiefs on their research priorities and needs in the context of regional decisionmaking.

On Thursday, April 26, from 9:00 a.m. to 5:30 p.m., the Committee will meet in discipline subcommittee breakout sessions to review the specific research plans of the regions for Fiscal Years 2002 and 2003.

On Friday, April 27, at 9:00 a.m., the Committee will meet in plenary session to discuss subcommittee reports and conduct Committee business. The meeting will adjourn at noon on Friday, April 27.

The meetings are open to the public. Approximately 30 visitors can be accommodated on a first-come-first-served basis at the plenary sessions.

A copy of the agenda may be requested from MMS by calling Ms. Julie Reynolds. Other inquiries concerning the OCS SC meeting should be addressed to Mr. Robert LaBelle. Please see the FOR FURTHER INFORMATION CONTACT section for addresses and telephone numbers.

Authority: Federal Advisory Committee Act, P.L. 92-463, 5 U.S.C., Appendix I, and the Office of Management and Budget's Circular A-63, Revised.

Dated: March 21, 2001.
Carolita U. Kallaur,
Associate Director for Offshore Minerals Management.

[FR Doc. 01-7550 Filed 3-26-01; 8:45 am]

BILLING CODE 4310-MR-P